DEPARTMENT OF STATE

[Public Notice 8508]

U.S. Department of State Advisory Committee on Private International Law (ACPIL)—Online Dispute Resolution (ODR) Study Group

The Office of the Assistant Legal Adviser for Private International Law, Department of State, hereby gives notice that the ACPIL ODR Study Group will hold a public meeting. The ACPIL ODR Study Group will meet to discuss the next session of the UNCITRAL ODR Working Group, scheduled for November 18-22, 2013 in Vienna. This is not a meeting of the full Advisory Committee.

The UNCITRAL ODR Working Group is charged with the development of legal instruments for resolving both business to business and business to consumer cross-border electronic commerce disputes. The Working Group is in the process of developing generic ODR procedural rules for resolution of cross-border electronic commerce disputes. For the reports of the first six sessions of the UNCITRAL ODR Working Group—December 13-17, 2010, in Vienna (A/CN.9/716); May 23-27, 2011, in New York (A/CN.9/721); Nov. 14-18, 2011, in Vienna (A/CN.9/739); May 21-25, 2012, in New York (A/CN.9/744); November 5-9, 2012, in Vienna (A/CN.9/762); and May 20-24, 2013, in New York (A/CN.9/769)—please follow the following link: http://www.uncitral.org/uncitral/commission/working_groups/3Online_Dispute_Resolution.html. Documents relating to the upcoming session of the Working Group are available on the same link.

Time and Place: The meeting of the ACPIL ODR Study Group will take place on Thursday, November 7, from 12:30 p.m. to 3:00 p.m. EDT at 2201 C Street NW., Harry S Truman Building, Room 4517. Participants should arrive at the C Street entrance of the Harry S Truman Building before 11:30 a.m. for visitor screening. Participants will be met inside the building at that entrance and will be escorted to Room 4517. If you are unable to attend the public meeting and would like to participate from a remote location, teleconferencing will be available.

Public Participation: This meeting is open to the public, subject to the capacity of the meeting room.

Access to building is strictly controlled. For pre-clearance purposes, those planning to attend in person are requested to email at pil@state.gov providing full name, address, date of birth, citizenship, driver's license or passport number, affiliation, and email address. This will greatly facilitate entry. Participants will be met inside the diplomatic entrance at C Street and, once badges are obtained, escorted to the meeting room.

A member of the public needing reasonable accommodation should provide an email requesting accommodations to pil@state.gov no later than a week before the meeting. Requests made after that date will be considered, but might not be able to be fulfilled. If you would like to participate by telephone, please email pil@state.gov to obtain the call-in number and other information.

Data from the public is requested pursuant to Pub. L. 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: October 17, 2013.
Michael Dennis,
Attorney-Adviser, Office of Private International Law, Office of the Legal Adviser, Department of State.

[FR Doc. 2013-25405 Filed 10-25-13; 8:45 am]

BILLING CODE 4710-08-P